DEPARTMENT OF THE INTERIOR

National Park Service

National Register of Historic Places; Notification of Pending Nominations

Nominations for the following properties being considered for listing in the National Register were received by the National Park Service before April 3, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by May 6, 2004.

Carol D. Shull,
Keeper of the National Register of Historic Places.

ALASKA

Wrangell-Peterburg Borough-Census Area

Five Finger Light Station, (Light Stations of the United States MPS), Island of The Five Fingers, approx. 37 mi. NW of the city of Petersburg, Petersburg, 04000416

CONNECTICUT

Hartford County

Southern New England Telephone Company Building, 55 Trumbull St., Hartford, 04000417

ILLINOIS

Bureau County

Lone Tree School, 19292 250 North Avenue, Tiskilwa, 04000418

Du Page County

Emery, Jr., William H., House, 281 Arlington, Elmhurst, 04000421

Logan County

Allen Chapel African Methodist Episcopal Church, 902 Broadway, Lincoln, 04000422

Macoupin County

Soulsby Service Station, (Route 66 through Illinois MPS), 102 Sout Route 66 St., Mount Olive, 04000420

Will County

Small—Towle House, 515 County Rd., Wilmington, 04000419

MASSACHUSETTS

Essex County

Rockport High School, Old, 58 Broadway, Rockport, 04000424

Middlesex County

Community Memorial Hospital, 15 Winthrop Ave., Ayer, 04000423

Glenwood Cemetery, NE of Parker St. and Great Rd., Maynard, 04000425

Suffolk County

Nazing Court Apartments, 224-236 Seaver St. and 1-8 Nazing Court, Boston, 04000426

MISSOURI

Buchanan County

Buddy, Charles A. and Annie, House, (St. Joseph MPS), 424 S. 9th St., St. Joseph, 04000427

St. Louis Independent city

Riggio Building, 5145-5149 Shaw Ave., St. Louis (Independent City), 04000428

NEW JERSEY

Middlesex County

Trinity Episcopal Church, 650 Rahway Ave., Woodbridge Township, 04000431

Union County

Green Brook Park, All parkland from Clinton Ave. to W of West End Ave., and Jct of Lawrence and Parkview Ave., Fisk and Townsend Pls., Plainfield, 04000437

NEW YORK

Albany County

Enlarged Erie Canal Historic District (Discontiguous), City of Cohoes, roughly from S to NW city boundary, Cohoes, 04000434

Dutchess County

Beverwyck Site, SE of jct. of U.S. 46 and S. Beverwyck Rd., Parsippany-Troy Hills, 04000430

Herkimer County

Covewood Lodge, 120 Covewood Lodge Rd., Big Moose, 04000435

Oneida County

Fort Schuyler Club Building, 254 Genesee St., Utica, 04000436

Onondaga County

Babcock—Shattuck House, 2000-2004 W. Genesee St., Syracuse, 04000429

Saratoga County

Mead House, 2210 Galway Rd., Galway, 04000433

Ulster County

Elting Memorial Library, 93 Main St., New Paltz, 04000432

PENNSYLVANIA

Allegheny County

Teutonia Maennerchor Hall, 857 Phineas St., Pittsburgh, 04000439

Montgomery County

Glendside Memorial Hall, 185 Keswick Ave., Cheltenham, 04000438

TENNESSEE

Davidson County

Temple Cemetery, 2001 15th Ave. N, Nashville, 04000440

VERMONT

Caledonia County

Darling, J.R., Store, 284 Scott Highway, Groton, 04000442

Goodine, Alice Lord, House, 276 Scott Highway, Groton, 04000441

Franklin County

Richford Primary School, (Educational Resources of Vermont MPS), 140 Intervale Ave., Richford, 04000443

Sweat—Comings Company House, 10-12 Powell St., Richmond, 04000444

Wheeler, F.W., House, 31 Interbale Ave., Richford, 04000445

WASHINGTON

Spokane County

Davenport Hotel (Boundary Decrease), 807 W. Sprague Ave., Spokane, 04000447

WISCONSIN

Brown County

Smith, J.B., House and Granary, 5121 Gravel Pit Rd., Green Bay, 04000446

[FR Doc. 04-8968 Filed 4-20-04; 8:45 am]

BILLING CODE 4312-51-P